ENVIRONMENTAL PROTECTION AGENCY

40 CFR Part 60 and 62

[EPA-HQ-OAR-2016-0033; FRL-9951-72-OAR]

RIN 2060-AS84

Clean Energy Incentive Program Design Details; Extension of Comment Period

AGENCY: Environmental Protection Agency (EPA).

ACTION: Proposed rule; extension of comment period.

SUMMARY: On June 30, 2016, the Environmental Protection Agency (EPA) proposed a rule titled, “Clean Energy Incentive Program Design Details.” The EPA is extending the comment period on the proposed rule, which was scheduled to close on September 2, 2016, by 60 days until November 1, 2016. The EPA is making this change to allow for requested tribal consultation in response to the proposed rule.

DATES: The public comment period for the proposed rule published in the Federal Register on June 30, 2016 (81 FR 42940), and extended at 81 FR 47325 (July 21, 2016) is being further extended. Written comments must be received on or before November 1, 2016.

ADDRESSES: The EPA has established a docket for the proposed rulemaking (available at http://www.regulations.gov). The Docket ID No. is EPA-HQ-OAR-2016-0033. Information on this action is posted at https://www.epa.gov/cleanpowerplan/clean-energy-incentive-program. Submit your comments, identified by the appropriate Docket ID No., to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: For additional information on this action, contact Dr. Tina Ndoh, Sector Policies and Programs Division, Office of Air Quality Planning and Standards (D243-04), Environmental Protection Agency, Research Triangle Park, NC 27711; telephone number: (919) 541-2750; email address: ndoh.tina@epa.gov.

SUPPLEMENTARY INFORMATION: A number of tribes working on comments for the Clean Energy Incentive Program (CEIP) Design Details proposed rule (81 FR 42940; June 30, 2016) have asked for additional consultation to better understand the issues related to the interaction between state plans and projects on tribal land that may qualify for the CEIP. Because of the interest of a number of tribes, the EPA believes it is appropriate to extend the comment period to allow for the requested tribal consultations and to provide tribes time to incorporate any information from those consultations in their comments. The EPA extended the initial comment period at 81 FR 47325 (July 21, 2016). The EPA is further extending the comment period for the CEIP Design Details proposal by 60 days, to November 1, 2016.

Dated: August 25, 2016.
Stephen Page,
Director, Office of Air Quality Planning and Standards.

[FR Doc. 2016-20898 Filed 8-30-16; 8:45 am]

BILLING CODE 6560-50-P